DEPARTMENT OF TRANSPORTATION

Federal Aviation Administration

14 CFR Part 39

[Docket No. FAA-2021-0711; Project Identifier 2019-CE-024-AD; Amendment 39-21814; AD 2021-23-16]

RIN 2120-AA64

Airworthiness Directives; Pacific Aerospace Limited Airplanes

AGENCY: Federal Aviation Administration (FAA), DOT.

ACTION: Final rule.

SUMMARY: The FAA is adopting a new airworthiness directive (AD) for certain Pacific Aerospace Limited Model 750XL airplanes. This AD was prompted by mandatory continuing airworthiness information (MCAI) originated by an aviation authority of another country to identify and correct an unsafe condition on an aviation product. The MCAI identifies the unsafe condition as chafing of the engine fuel feed line hoses. This AD requires inspecting the engine fuel feed line hoses and the electrical wiring and rerouting all fuel lines. The FAA is issuing this AD to address the unsafe condition on these products.

DATES: This AD is effective January 11, 2022.

The Director of the Federal Register approved the incorporation by reference of a certain publication listed in this AD as of January 11, 2022.

ADDRESSES: For service information identified in this final rule, contact the Civil Aviation Authority of New Zealand, Level 15, Asteron Centre, 55 Featherston Street, Wellington 6011; phone: +64 4 560 9400; fax: +64 4 569 2024; email: info@caa.govt.nz. You may view this service information at the FAA, Airworthiness Products Section, Operational Safety Branch, 901 Locust, Kansas City, MO 64106. For information on the availability of this material at the FAA, call (816) 329-4148. It is also available at https://www.regulations.gov by searching for and locating Docket No. FAA-2021-0711.

Examining the AD Docket

You may examine the AD docket at https://www.regulations.gov by searching for and locating Docket No. FAA-2021-0711; or in person at Docket Operations between 9 a.m. and 5 p.m., Monday through Friday, except Federal holidays. The AD docket contains this final rule, the MCAI, any comments received, and other information. The address for Docket Operations is U.S. Department of Transportation, Docket Operations, M-30, West Building Ground Floor, Room W12-140, 1200 New Jersey Avenue SE, Washington, DC 20590.

FOR FURTHER INFORMATION CONTACT: Mike Kiesov, Aviation Safety Engineer, General Aviation & Rotorcraft Section, International Validation Branch, FAA, 901 Locust, Room 301, Kansas City, MO 64106; phone: (816) 329-4144; fax: (816) 329-4090; email: mike.kiesov@faa.gov.

SUPPLEMENTARY INFORMATION:

Background

The FAA issued a notice of proposed rulemaking (NPRM) to amend 14 CFR part 39 by adding an AD that would apply to certain serial-numbered Pacific Aerospace Limited Model 750XL airplanes fitted with an air conditioner and/or standby alternator. The NPRM published in the Federal Register on August 27, 2021 (86 FR 48086). The NPRM was prompted by MCAI originated by the Civil Aviation Authority (CAA), which is the aviation authority for New Zealand. The CAA of New Zealand has issued AD DCA/750XL/37, effective April 25, 2019 (referred to after this as “the MCAI”), to correct an unsafe condition for certain Pacific Aerospace Limited Model 750XL airplanes. The MCAI states:

DCA/750XL/37 is prompted by a review of the installation of the engine fuel lines and the electrical installation forward of the engine firewall on aircraft fitted with an air conditioner and/or a standby alternator, including those aircraft configured for the installation of an air conditioner and/or a standby alternator. It was found that the engine fuel feed lines hoses could possibly chafe against the adjacent electrical wiring and the ignition exciter, which could result in a fuel leak and possible fire. The [CAA] AD is issued to introduce the corrective actions in Pacific Aerospace Mandatory Service Bulletin (MSB) PACSB/XL/113 issue 2, dated 8 March 2019.

You may examine the MCAI in the AD docket at https://www.regulations.gov by searching for and locating Docket No. FAA-2021-0711.

Discussion of Final Airworthiness Directive

Comments

The FAA received a comment from an individual who supported the NPRM without change.

Conclusion

This product has been approved by the aviation authority of another country and is approved for operation in the United States. Pursuant to the FAA's bilateral agreement with this State of Design Authority, it has notified the FAA of the unsafe condition described in the MCAI and service information referenced above. The FAA reviewed the relevant data, considered any comments received, and determined that air safety requires adopting this AD as proposed. Accordingly, the FAA is issuing this AD to address the unsafe condition on these products. This AD is adopted as proposed in the NPRM.

Related Service Information Under 1 CFR Part 51

The FAA reviewed Pacific Aerospace Mandatory Service Bulletin PACSB/XL/113, Issue 2, dated March 8, 2019. The service information contains procedures for inspecting the engine fuel feed line hoses and the electrical wiring for chafing or damage, rerouting all fuel lines and the fuel transducer and pressure switch wiring (including installing P clips), and inspecting the fuel hose for chafing and replacing chafed fire sleeves or fuel hoses if necessary. This service information is reasonably available because the interested parties have access to it through their normal course of business or by the means identified in ADDRESSES.

Differences Between This AD and the MCAI

The MCAI requires an inspection at the next 150 hour maintenance inspection or within the next 50 hours time-in-service (TIS), whichever occurs later, while this AD requires those actions within 50 hours TIS or at the next annual inspection after the effective date of this AD, whichever occurs later. If there is no chafing and damage found during the inspection, the MCAI requires certain follow-on actions at the next 300 hour maintenance inspection or within the next 50 hours TIS, whichever is later. This AD requires those actions within 50 hours TIS or at the next annual inspection, whichever occurs later, because there is no regulatory requirement for operators in the U.S. to have 150-hour or 300-hour maintenance inspections.

Costs of Compliance

The FAA estimates that this AD affects 23 airplanes of U.S. registry. The FAA also estimates that it will take about 5 work-hours per airplane and require parts costing $20 per airplane to comply with the inspection and re-routing that are required by this AD. The average labor rate is $85 per work-hour.

Based on these figures, the FAA estimates the inspection and re-routing cost of this AD on U.S. operators to be $10,235, or $445 per airplane.

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-23-16 Pacific Aerospace Limited:Amendment 39-21814; Docket No. FAA-2021-0711; Project Identifier 2019-CE-024-AD.

(a) Effective Date

This airworthiness directive (AD) is effective January 11, 2022.

(b) Affected ADs

None.

(c) Applicability

This AD applies to Pacific Aerospace Limited Model 750XL airplanes, serial numbers 101 through 215 inclusive, 220, 8001, and 8002, certificated in any category, that are fitted with an air conditioner and/or a standby alternator, including airplanes configured for the installation of an air conditioner and/or a standby alternator, as shown in Figure 1 of Part A in Pacific Aerospace Mandatory Service Bulletin PACSB/XL/113, Issue 2, dated March 8, 2019 (MSB PACSB/XL/113, Issue 2).

(d) Subject

Joint Aircraft System Component (JASC) Code 2820, Aircraft Fuel Distribution, and 2497, Electrical Power System Wiring.

(e) Unsafe Condition

This AD was prompted by mandatory continuing airworthiness information (MCAI) originated by an aviation authority of another country to identify and correct an unsafe condition on an aviation product. The MCAI describes the unsafe condition as chafing of the engine fuel feed line hoses. The FAA is issuing this AD to prevent chafing of the engine fuel feed line hoses with electrical wiring and the ignition exciter located forward of the engine firewall. The unsafe condition, if not addressed, could result in a fuel leak and fire.

(f) Compliance

Comply with this AD within the compliance times specified, unless already done.

(g) Required Actions

Within 50 hours time-in-service (TIS) or at the next annual inspection after the effective date of this AD, whichever occurs later, inspect the engine fuel feed line hoses and the electrical wiring for chafing and damage in accordance with the Accomplishment Instructions, Part A steps (3) and (4), in MSB PACSB/XL/113, Issue 2.

(1) If there is any chafing or damage that penetrates the orange outer covering of the fuel line fire sleeve or if there is any chafed or damaged electrical wiring, before further flight, inspect the fuel hose for chafing, replace any chafed fire sleeve or fuel hose, and reroute all fuel lines in accordance with the Accomplishment Instructions, Part B, in MSB PACSB/XL/113, Issue 2.

(2) If there are no chafed or damaged engine fuel feed line hoses and no chafed or damaged electrical wiring, within 50 hours TIS or at the next annual inspection, whichever occurs later, reroute all fuel lines in accordance with the Accomplishment Instructions, Part B, in MSB PACSB/XL/113, Issue 2.

(h) Alternative Methods of Compliance (AMOCs)

(1) The Manager, International Validation Branch, has the authority to approve AMOCs for this AD, if requested using the procedures found in 14 CFR 39.19. In accordance with 14 CFR 39.19, send your request to your principal inspector or local Flight Standards District Office, as appropriate. If sending information directly to the manager of the certification office, send it to the attention of the person identified in paragraph (i)(1) of this AD or email: 9-AVS-AIR-730-AMOC@faa.gov.

(2) Before using any approved AMOC, notify your appropriate principal inspector, or lacking a principal inspector, the manager of the local flight standards district office/certificate holding district office.

(i) Related Information

(1) For more information about this AD, contact Mike Kiesov, Aviation Safety Engineer, General Aviation & Rotorcraft Section, International Validation Branch, FAA, 901 Locust, Room 301, Kansas City, MO 64106; phone: (816) 329-4144; fax: (816) 329-4090; email: mike.kiesov@faa.gov.

(2) Refer to Civil Aviation Authority (CAA) of New Zealand AD DCA/750XL/37, effective April 25, 2019, for more information. You may examine the CAA AD in the AD docket at https://www.regulations.gov by searching for and locating Docket No. FAA-2021-0711.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Pacific Aerospace Mandatory Service Bulletin PACSB/XL/113, Issue 2, dated March 8, 2019.

(ii) [Reserved]

(3) For service information identified in this AD, contact the CAA of New Zealand, Level 15, Asteron Centre, 55 Featherston Street, Wellington 6011; phone: +64 4 560 9400; fax: +64 4 569 2024; email: info@caa.govt.nz.

(4) You may view this service information at FAA, Airworthiness Products Section, Operational Safety Branch, 901 Locust, Kansas City, MO 64106. For information on the availability of this material at the FAA, call (816) 329-4148.

(5) You may view this service information that is incorporated by reference at the National Archives and Records Administration (NARA). For information on the availability of this material at NARA, email: fr.inspection@nara.gov, or go to: https://www.archives.gov/federal-register/cfr/ibr-locations.html.

Issued on November 2, 2021.
Lance T. Gant,
Director, Compliance & Airworthiness Division, Aircraft Certification Service.

[FR Doc. 2021-26496 Filed 12-6-21; 8:45 am]

BILLING CODE 4910-13-P